DEPARTMENT OF THE INTERIOR

Bureau of Land Management

[LLES930000.LLES1320000.EL0000]

Notice of Competitive Coal Lease Sale ALES-55199, Alabama

AGENCY: Bureau of Land Management, Interior.

ACTION: Notice.

SUMMARY: Notice is hereby given that the coal resources in the lands described below in Jefferson County, Alabama, will be re-offered for competitive lease by sealed bid in accordance with the provisions of the Mineral Leasing Act of 1920, as amended.

DATES: The coal lease sale will be held at 1 p.m. Central Daylight Time (CDT) on a date to be determined by the BLM Eastern States Deputy State Director, no sooner than October 4, 2018. Sealed bids must be received on or before 10 a.m. CDT on the date of sale.

ADDRESSES: The date of the sale will be posted at https://www.blm.gov/eastern-states. The lease sale will be held at the Bureau of Land Management (BLM) Southeastern States District Office located at 273 Market Street, Flowood, MS 39232. The Detailed Statement of Lease Sale, the proposed coal lease, and Casefile ALES-55199 are available at this address. Sealed bids must be submitted to the Cashier, BLM Southeastern States District Office, at this same address.

FOR FURTHER INFORMATION CONTACT: Contact Randall Mills, BLM Mining Engineer, by telephone at 601-919-4668, by email to ramills@blm.gov, or at the address indicated above. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This coal lease sale is being held in response to a lease by application (LBA) filed by Best Coal Company. The Federal coal reserves to be re-offered consist of all reserves recoverable by surface mining methods in the following described lands located approximately 5 miles north of Mt. Olive, Alabama, in Jefferson County, Alabama:

Huntsville Meridian, Alabama

T. 15 S, R. 4 W,

Sec. 24, SW¼NW¼, N½SW¼, and SE¼SW¼.

The areas described aggregate 160.82 acres.

The Narley Mine Coal Tract contains three minable coal beds known as the New Castle, Mary Lee, and Blue Creek seams of the Mary Lee coal group. The seams are under private surface lands. The minable thickness of these coal beds for this tract are approximately 4 to 5 feet. The tract contains approximately 469,000 tons of recoverable high-volatile bituminous coal. The estimated average coal quality on an “as received basis” is as follows:

12,500 | British Thermal Unit (Btu/lb).
3.50 | Percent moisture.*
12.00 | Percent ash.
34 | Percent volatile matter.
50.50 | Percent fixed carbon.
1.50 | Percent sulfur.
* Estimated as received moisture; also used for calculating as received from dry basis.

The tract will be leased to the qualified bidder of the highest cash amount, provided that the bid meets or exceeds the BLM's estimate of the fair market value of the tract. The minimum bid established by regulation is $100 per acre or fraction thereof. The minimum bid is not intended to represent fair market value. The fair-market value will be determined by the authorized officer after the sale.

The sealed bids should be sent by certified mail, return-receipt requested, or be hand delivered to the cashier, BLM Southeastern States District Office, at the address given above and clearly marked “Sealed Bid for ALES-55199 Coal Sale—Not to be opened before 1 p.m. CDT on (date of Sale), 2018.” The cashier will issue a receipt for each hand-delivered bid. Bids received after 10 a.m. on the date of the sale will not be considered. If identical high bids are received, the tying high bidders will be requested to submit follow-up sealed bids until a high bid is received. All tie-breaking sealed bids must be submitted within 15 minutes following the sale official's announcement at the sale that identical high bids have been received. Prior to lease issuance, the high bidder, if other than the applicant, must pay to the BLM the cost-recovery fees in the amount of $30,630 in addition to all processing costs the BLM incurs after the date of this sale notice (43 CFR 3473.2).

A lease issued as a result of this offering will provide for payment of an annual rental of $3 per acre, or fraction thereof, and a royalty payable to the United States of 12.5 percent of the value of coal mined by surface methods and 8 percent of the value of coal mined by underground methods. Bidding instructions for the tract offered, and the terms and conditions of the proposed coal lease, are included in the Detailed Statement of Lease Sale. Copies of the statement and the proposed coal lease are available at the BLM Southeastern States District Office. Casefile ALES-55199 is also available for public inspection at the BLM Southeastern States District Office.

Authority: 43 CFR 3422.3-2.

Mitchell Leverette,
Acting State Director.

[FR Doc. 2018-19124 Filed 8-31-18; 8:45 am]

BILLING CODE 4310-GJ-P